DEPARTMENT OF TRANSPORTATION

Office of the Secretary

49 CFR Subtitle A

[Docket No. OST-2005-20434]

Negotiated Rulemaking Advisory Commiteee on Minimum Standards for Driver's Licenses and Personal Identification Cards

AGENCY: Office of the Secretary (OST), DOT.

ACTION: Notice of termination of advisory committee.

SUMMARY: This document terminates the Negotiated Rulemaking Advisory Committee on Minimum Standards for Driver's Licenses and Personal Identification Cards. The reason for the termination is that the recently-enacted Real ID Act repeals section 7212 of the Intelligence Reform and Terrorism Prevention Act of 2004, which provided the authority for the negotiated rulemaking on this subject.

Effective Date: The advisory committee is terminated as of May 26, 2005.

FOR FURTHER INFORMATION CONTACT: Robert C. Ashby, Deputy Assistant General Counsel for Regulation and Enforcement, Office of the General Counsel, at 202-366-9310 (bob.ashby@dot.gov); Department of Transportation, 400 7th Street, SW., Washington DC, 20590, room 10424.

SUPPLEMENTARY INFORMATION: Section 7212 of the Intelligence Reform and Terrorism Prevention Act of 2004 mandated the issuance of minimum standards for state-issued driver's licenses and personal identification cards (Section 7212) that will be accepted by Federal agencies for official purposes. This statute directed the Department of Transportation to issue rules with the assistance of a negotiated rulemaking advisory committee, composed of representatives of the Departments of Transportation and Homeland Security, state agencies that issue driver's licenses, state elected officials, and other interested parties. The Department formed such an advisory committee, which met on April 19-21, 2005.

Recently, President Bush signed legislation enacting the “Real ID Act,” section 206 of which repeals section 7212. As provided in the charter for the advisory committee, the committee and the negotiated rulemaking process of which it is a key part terminate upon enactment of legislation repealing section 7212. Consequently, the Department in this notice announces the termination of the committee and the negotiated rulemaking. As a result, meetings of the committee that had been scheduled during May-July 2005 will not take place.

Participants in the advisory committee process demonstrated a commitment of time, energy, expertise, and good will that is very much to their credit. The Department wishes to express its sincere gratitude to these public-spirited organizations and individuals.

Issued this 19th day of May, 2005, at Washington, DC.
Jeffrey A. Rosen,
General Counsel.

[FR Doc. 05-10549 Filed 5-25-05; 8:45 am]

BILLING CODE 4910-62-P